DEPARTMENT OF EDUCATION

Applications for New Awards; Alaska Native and Native Hawaiian-Serving Institutions Program, Part A

AGENCY: Office of Postsecondary Education, Department of Education.

ACTION: Notice.

SUMMARY: The Department of Education (Department) is issuing a notice inviting applications for new awards for fiscal year (FY) 2024 for the Alaska Native and Native Hawaiian-Serving Institutions (ANNH) Program, Part A, Assistance Listing Numbers 84.031N (Alaska Native) and 84.031W (Native Hawaiian). This notice relates to the approved information collection under OMB control number 1840-0810.

DATES:

Applications Available: February 27, 2024.

Deadline for Transmittal of Applications: April 29, 2024.

Deadline for Intergovernmental Review: June 26, 2024.

ADDRESSES: For the addresses for obtaining and submitting an application, please refer to our Common Instructions for Applicants to Department of Education Discretionary Grant Programs, published in the Federal Register on December 7, 2022 (87 FR 75045) and available at www.federalregister.gov/d/2022-26554. Please note that these Common Instructions supersede the version published on December 27, 2021.

FOR FURTHER INFORMATION CONTACT: Robyn Wood, U.S. Department of Education, 400 Maryland Avenue SW, 5th Floor, Washington, DC 20202-4260. Telephone: (202) 987-1577. Email: Robyn.Wood@ed.gov.

If you are deaf, hard of hearing, or have a speech disability and wish to access telecommunications relay services, please dial 7-1-1.

SUPPLEMENTARY INFORMATION:

Full Text of Announcement

I. Funding Opportunity Description

Purpose of Program: The ANNH Program provides grants to eligible institutions of higher education (IHEs) to enable them to improve and expand their capacity to serve Alaska Native and Native Hawaiian students. Institutions may use these grants to plan, develop, or implement activities that strengthen the institution.

Background: The Alaska Native and Native Hawaiian populations experience disparities in college access and completion. A 2018 report found that degree attainment for Alaska Native adults at the associate's degree level and higher was 11 percent, compared to over 43 percent for White adults in Alaska.¹ In three-year American Community Survey data (2011-2013), the bachelor's degree attainment rate for Native Hawaiians was 20.5 percent, and the national bachelor's degree attainment rate was 29.1 percent.² The degree attainment gap between Native Hawaiians and White adults was 21 percentage points, according to a 2018 report.³ In addition, according to U.S. Census Bureau data, 53% of Native Hawaiians had not enrolled in any postsecondary education, as compared to 54.9% of the total U.S. population who had attended college.⁴ To increase access to, and success in, postsecondary education by Alaska Native and Native Hawaiian students, the Department, through the FY 2024 ANNH competitive preference priorities, encourages projects that are designed to reduce these disparities by addressing students' social, emotional, and academic needs, as well as projects designed to increase access and success in postsecondary education.

¹ Pilar, W.D. (2018, November 15). Degree attainment for Native American adults. Degree Attainment for Native American Adults. https://edtrust.org/resource/degree-attainment-for-native-american-adults/#:~:text=Degree%20attainment%20for%20Native%20Hawaiians%20is%20significantly%20higher,points%20higher%20than%20degree%20attainment%20for%20Native%20Alaskans.

² Teranishi, R.T., Le, A., Gutierrez, R.A.E., Venturanza, R., Hafoka, `Inoke, Gogue, D.T.-L., & Uluave, L. (2019). APIA scholars—Asian Pacific Islander American scholars: APIA scholars. Native Hawaiians and Pacific Islanders in Higher Education: A Call to Action. https://apiascholars.org/wp-content/uploads/2019/12/NHPI_Report.pdf.

³ Pilar, W.D. (2018, November 15). Degree attainment for Native American adults. Degree Attainment for Native American Adults. https://edtrust.org/resource/degree-attainment-for-native-american-adults/#:~:text=Degree%20attainment%20for%20Native%20Hawaiians%20is%20significantly%20higher,points%20higher%20than%20degree%20attainment%20for%20Native%20Alaskans.

⁴ Teranishi, R.T., Le, A., Gutierrez, R.A.E., Venturanza, R., Hafoka, `Inoke, Gogue, D.T.-L., & Uluave, L. (2019). APIA scholars—Asian Pacific Islander American scholars: APIA scholars. Native Hawaiians and Pacific Islanders in Higher Education: A Call to Action. https://apiascholars.org/wp-content/uploads/2019/12/NHPI_Report.pdf.

Through the first invitational priority in this competition, the Department seeks to encourage Alaska Native and Native Hawaiian-serving institutions to support Native language revitalization and preservation. There are more than 200 Tribal communities without living speakers of their native language.⁵ Prior to the Native American Languages Act of 1990, Native languages were excluded from classrooms, and the Federal Indian boarding school system “discouraged and prevented” the use of Alaska Native and Native Hawaiian languages.⁶ Furthermore, the COVID-19 pandemic had a devastating impact on Native language communities, especially among the elderly population, who are often fluent Native language speakers.⁷

⁵ Committee on Indian Affairs. (2018, August 22). Examining Efforts to Maintain and Revitalize Native Language for Future Generations. https://www.govinfo.gov/content/pkg/CHRG-115shrg32539/html/CHRG-115shrg32539.htm.

⁶ Newland, B. (2022, May). Federal Indian Boarding School Initiative Investigative Report. https://www.bia.gov/sites/default/files/dup/inline-files/bsi_investigative_report_may_2022_508.pdf.

⁷ Suave, M. (2021, May 26). Examining the COVID-19 response in Native Communities. Testimony from Michelle Sauve on Examining the COVID-19 Response in Native Communities: Native Languages One Year Later before Senate Committee on Indian Affairs. https://www.hhs.gov/about/agencies/asl/testimony/2021/05/26/examining-the-covid-19-response-in-native-communities.html.

Through the second invitational priority, the Department encourages projects to support Native Hawaiian-serving institutions impacted by the wildfires that occurred in August 2023 on the island of Maui. According to the National Fire Protection Association, the 2023 Maui wildfire ranked among the top 10 deadliest wildfires on record since 1871.⁸ The disaster has had a devastating impact on the State's economy.⁹

⁸ Carli, L. (2023, August 12). Maui wildfire one of deadliest in U.S. history. Nfpa.org. https://www.nfpa.org/news-blogs-and-articles/blogs/2023/09/19/maui-wildfire-one-of-deadliest-in-us-history?l=41.

⁹ UHERO Forecast for the State of Hawai'i: Wildfires deliver heavy blow to Maui economy—UHERO (hawaii.edu).

Priorities: This notice contains two competitive preference priorities and two invitational priorities. The competitive preference priorities are from the Secretary's Supplemental Priorities and Definitions for Discretionary Grants Programs, published in the Federal Register on December 10, 2021 (86 FR 70612) (Supplemental Priorities).

Competitive Preference Priorities: For FY 2024 and any subsequent year in which we make awards from the list of unfunded applicants from this competition, these priorities are competitive preference priorities. Under 34 CFR 75.105(c)(2)(i), we award up to an additional 4 to 8 points to an application for each priority, depending on how well the application meets the priorities. Applicants may respond to one or both priorities, for a total of up to 12 additional points.

These priorities are:

Competitive Preference Priority 1: Meeting Student Social, Emotional, and Academic Needs (up to 4 points).

Projects that are designed to improve students' social, emotional, academic, and career development, with a focus on underserved students, by creating a positive, inclusive, and identity-safe climate at IHEs through one or both of the following activities:

(a) Fostering a sense of belonging and inclusion for underserved students. (up to 2 points)

(b) Implementing evidence-based practices for advancing student success for underserved students. (up to 2 points)

Competitive Preference Priority 2: Increasing Postsecondary Education Access, Affordability, Completion, and Post-Enrollment Success (up to 8 points).

Projects that are designed to increase postsecondary education access, affordability, completion, and success for underserved students by addressing one or more of the following priority areas:

(a) Increasing the number and proportion of underserved students who enroll in and complete postsecondary education programs, which may include strategies related to college preparation, awareness, application, selection, advising, counseling, and enrollment. (up to 2 points)

(b) Supporting the development and implementation of student success programs that integrate multiple comprehensive and evidence-based services or initiatives, such as academic advising, structured/guided pathways, career services, credit-bearing academic undergraduate courses focused on career, and programs to meet basic needs, such as housing, childcare and transportation, student financial aid, and access to technological devices. (up to 2 points)

Note: Under 34 CFR 607.10(c)(13), grantees may not use funds awarded under this program to pay directly for childcare and transportation expenses. Grantees also may not use funds awarded under this program for student financial aid.

(c) Supporting the development and implementation of high-quality and accessible learning opportunities, including learning opportunities that are accelerated or hybrid online; credit-bearing; work-based; and flexible for working students. (up to 2 points)

(d) Providing secondary school students with access to career exploration and advising opportunities to help students make informed decisions about their postsecondary enrollment decisions and to place them on a career path. (up to 2 points)

Invitational Priorities: For FY 2024 and any subsequent year in which we make awards from the list of unfunded applications from this competition, these priorities are invitational priorities. Under 34 CFR 75.105(c)(1), we do not give an application that meets these invitational priorities a competitive or absolute preference over other applicants.

These priorities are:

Invitational Priority 1.

Projects that support activities to strengthen and institutionalize Native language preservation and revitalization.

Invitational Priority 2.

In the case of Native Hawaiian-serving institutions, projects that address the challenges related to the national wildfire emergency.

Note: Applicants must include in the one-page abstract submitted with the application a statement indicating whether they are addressing Competitive Preference Priority 1, Competitive Preference Priority 2, Invitational Priority 1, Invitational Priority 2, any combination of these priorities, or all of these priorities. If the applicant has addressed the priorities, this information also must be listed on the ANNH Program Profile form in the application booklet.

Definitions: The definitions below apply to this competition and are from 20 U.S.C. 1059d, 20 U.S.C. 7517, 20 U.S.C. 7546, 43 U.S.C. 1602, 34 CFR 77.1, and the Final Priorities and Definitions—Secretary's Supplemental Priorities and Definitions for Discretionary Grants Programs (86 FR 70612).

Alaska Native has the same meaning as the term “Native” has in section 1602(b) of title 43 and includes the descendants of individuals so defined. (20 U.S.C. 7546)

Alaska Native-serving institution means an institution of higher education that—

(1) Is an eligible institution under section 1058(b) of title 20; and

(2) At the time of application, has an enrollment of undergraduate students that is at least 20 percent Alaska Native students. (20 U.S.C. 1059d)

Demonstrates a rationale means a key project component included in the project's logic model is informed by research or evaluation findings that suggest the project component is likely to improve relevant outcomes. (34 CFR 77.1)

Evidence Based means the proposed project component is supported by one or more of strong evidence, moderate evidence, promising evidence, or evidence that demonstrates a rationale.

Fiscal year means the Federal fiscal year—a period beginning on October 1 and ending on the following September 30. (34 CFR 77.1)

Grantee means the legal entity to which a grant is awarded and that is accountable to the Federal Government for the use of the funds provided. The grantee is the entire legal entity even if only a particular component of the entity is designated in the grant award notice (GAN). For example, a GAN may name as the grantee one school or campus of a university. In this case, the granting agency usually intends, or actually intends, that the named component assume primary or sole responsibility for administering the grant-assisted project or program. Nevertheless, the naming of a component of a legal entity as the grantee in a grant award document shall not be construed as relieving the whole legal entity from accountability to the Federal Government for the use of the funds provided. (This definition is not intended to affect the eligibility provision of grant programs in which eligibility is limited to organizations that may be only components of a legal entity.) The term “grantee” does not include any secondary recipients, such as subgrantees and contractors, that may receive funds from a grantee pursuant to a subgrant or contract. (34 CFR 77.1)

Logic model (also referred to as theory of action) means a framework that identifies key project components of the proposed project (i.e., the active “ingredients” that are hypothesized to be critical to achieving the relevant outcomes) and describes the theoretical and operational relationships among the key project components and relevant outcomes. (34 CFR 77.1)

Note: In developing logic models, applicants may want to use resources such as the Regional Educational Laboratory Program's (REL Pacific) Education Logic Model Application User Guide, available at https://ies.ed.gov/ncee/rel/regions/pacific/pdf/ELMUserGuideJune2014.pdf. Other sources include: Logic Models: At tool for effective program planning, collaboration and monitoring (https://ies.ed.gov/ncee/edlabs/regions/pacific/pdf/REL_2014025.pdf), and Logic models: A tool for designing and monitoring program evaluations (https://ies.ed.gov/ncee/edlabs/regions/pacific/pdf/REL_2014007.pdf), and Logic models for program design, implementation, and evaluation: Workshop toolkit (https://ies.ed.gov/ncee/edlabs/regions/northeast/pdf/REL_2015057.pdf).

Military- or veteran-connected student means one or more of the following:

(1) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(2) A student who is a member of the uniformed services, a veteran of the uniformed services, or the spouse of a service member or veteran.

(3) A child participating in an early learning program, a student enrolled in preschool through grade 12, or a student enrolled in career and technical education or postsecondary education who has a parent or guardian who is a veteran of the uniformed services (as defined by 37 U.S.C. 101). (86 FR 70612)

Native means a citizen of the United States who is a person of one-fourth degree or more Alaska Indian (including Tsimshian Indians not enrolled in the Metlaktla Indian Community) Eskimo, or Aleut blood, or combination thereof. The term includes any Native as so defined either or both of whose adoptive parents are not Natives. It also includes, in the absence of proof of a minimum blood quantum, any citizen of the United States who is regarded as an Alaska Native by the Native village or Native group of which he claims to be a member and whose father or mother is (or, if deceased, was) regarded as Native by any village or group. Any decision of the Secretary regarding eligibility for enrollment shall be final. (43 U.S.C. 1602b)

Native Hawaiian means any individual who is—

(1) A citizen of the United States; and

(2) A descendant of the aboriginal people who, prior to 1778, occupied and exercised sovereignty in the area that now comprises the State of Hawaii, as evidenced by—

(i) Genealogical records;

(ii) Kupuna (elders) or Kamaaina (long-term community residents) verification; or

(iii) Certified birth records. (20 U.S.C. 7517)

Native Hawaiian-serving institution means an institution of higher education which—

(1) Is an eligible institution under section 1058(b) of title 20; and

(2) At the time of application, has an enrollment of undergraduate students that is at least 10 percent Native Hawaiian students. (20 U.S.C. 1059d)

Project component means an activity, strategy, intervention, process, product, practice, or policy included in a project. Evidence may pertain to an individual project component or to a combination of project components (e.g., training teachers on instructional practices for English learners and follow-on coaching for these teachers). (34 CFR part 77)

Relevant outcome means the student outcome(s) or other outcome(s) the key project component is designed to improve, consistent with the specific goals of the program. (34 CFR part 77)

Underserved student means a student in one or more of the following subgroups:

(1) A student who is living in poverty or is served by schools with high concentrations of students living in poverty.

(2) A child or student with a disability.

(3) A lesbian, gay, bisexual, transgender, queer or questioning, or intersex (LGBTQI+) student.

(4) A pregnant, parenting, or caregiving student,

(5) A student impacted by the justice system, including a formerly incarcerated student.

(6) A student who is the first in their family to attend postsecondary education.

(7) A student who is working full-time while enrolled in postsecondary education.

(8) A student enrolling in or seeking to enroll in postsecondary education for the first time at the age of 20 or older.

(9) A student who is enrolled in or is seeking to enroll in postsecondary education who is eligible for a Pell Grant.

(10) A military- or veteran- connected student.

(86 FR 70612)

Program Authority: 20 U.S.C. 1059d.

Note: In 2008, the HEA was amended by the Higher Education Opportunity Act of 2008 (HEOA), Pub. L. 110-315. Please note that the regulations for ANNH in 34 CFR part 607 have not been updated to reflect these statutory changes. The statute supersedes all other regulations.

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 607. (e) The Supplemental Priorities.

II. Award Information

Type of Award: Discretionary grants. Five-year Individual Development Grants and Cooperative Arrangement Development Grants will be awarded in FY 2024.

Note: A cooperative arrangement is an arrangement to carry out allowable grant activities between an institution eligible to receive a grant under this part and one or more other eligible or ineligible IHEs, under which the resources of the cooperating institutions are combined and shared to better achieve the purposes of this part and avoid costly duplication of effort.

Estimated Available Funds: The Administration has requested $25,044,000 for ANNH in FY 2024, of which we intend to use an estimated $17,299,105 for new awards. The actual level of funding, if any, depends on final congressional action. However, we are inviting applications to allow enough time to complete the grant process if Congress appropriates funds for this program.

Contingent upon the availability of funds and the quality of applications, we may make additional awards in subsequent years from the list of unfunded applications from this competition.

Individual Development Grants:

Estimated Range of Awards: $850,000-$900,000 per year.

Estimated Average Size of Awards: $875,000 per year.

Maximum Award: We will not make an award exceeding $900,000 for a single budget period of 12 months.

Estimated Number of Awards: 6.

Cooperative Arrangement Development Grants:

Estimated Range of Awards: $950,000-$1,000,000 per year.

Estimated Average Size of Awards: $975,000 per year.

Maximum Award: We will not make an award exceeding $1,000,000 for a single budget period of 12 months.

Estimated Number of Awards: 12.

Note: The Department is not bound by any estimates in this notice.

Project Period: Up to 60 months.

III. Eligibility Information

1.a. Eligible Applicants: This program is authorized by title III, part A, of the HEA. At the time of submission of their applications, applicants must certify that an Alaska Native-serving institution has an enrollment of undergraduate students that are at least 20 percent Alaska Native students or that a Native Hawaiian-serving institution has an enrollment of undergraduate students that is at least 10 percent Native Hawaiian students. An assurance form, which is included in the application materials for this competition, must be signed by an official for the applicant and submitted with this application.

To qualify as an eligible institution under the ANNH Program, an institution also must—

(i) Be accredited or preaccredited by a nationally recognized accrediting agency or association that the Secretary has determined to be a reliable authority as to the quality of education or training offered;

(ii) Be legally authorized by the State in which it is located to be a junior or community college or to provide an educational program for which it awards a bachelor's degree;

(iii) Demonstrate that it (1) has an enrollment of needy students as described in 34 CFR 607.3; and (2) has low average education and general expenditures per full-time equivalent (FTE) undergraduate student as described in 34 CFR 607.4.

b. Relationship between the Title III, Part A Programs and the Developing Hispanic-Serving Institutions (HSI) Program: A grantee under the HSI Program, which is authorized under title V of the HEA, may not receive a grant under any HEA, title III, part A program. 20 U.S.C. 1101d. The title III, part A programs are the Strengthening Institutions Program, the ANNH program, the Tribally Controlled Colleges and Universities Program, the Asian American and Native American Pacific Islander-Serving Institutions Program, the Predominantly Black Institutions Program, and the Native American-Serving Nontribal Institutions Program. Furthermore, a current title III, Part A or title V program grantee may not give up its grant to receive a grant under ANNH, as described in 34 CFR 607.2(g)(1).

An eligible IHE that is not a current grantee under the above-cited programs may apply for a FY 2024 grant under all title III, part A programs for which it is eligible, as well as receive consideration for a grant under the HSI program. However, a successful applicant may receive only one grant, as described in 34 CFR 607.2(g)(1).

c. Individual Development and Cooperative Arrangement Grants: An eligible IHE that submits applications for an Individual Development Grant and a Cooperative Arrangement Development Grant in this competition may be awarded both in the same fiscal year. However, we will not award a second Cooperative Arrangement Development Grant to an otherwise eligible IHE as the lead institution for an award year for which the IHE already has a Cooperative Arrangement Development Grant as the lead institution under the ANNH Program. A grantee with an Individual Development Grant or a Cooperative Arrangement Development Grant may be a partner in one or more Cooperative Arrangement Development Grants. The lead institution in a Cooperative Arrangement Development Grant must be an eligible institution. Partners are not required to be eligible institutions.

2. a. Cost Sharing or Matching: This program does not require cost sharing or matching.

b. Supplement-Not-Supplant: This program involves supplement-not-supplant funding requirements. Grant funds must be used so that they supplement and, to the extent practical, increase the funds that would otherwise be available for the activities to be carried out under the grant and in no case supplant those funds (34 CFR 607.30(b)).

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application. Please note that these Common Instructions supersede the version published on December 27, 2021.

2. Intergovernmental Review: This program is subject to Executive Order 12372 and the regulations in 34 CFR part 79. Information about Intergovernmental Review of Federal Programs under Executive Order 12372 is in the application package for this program.

3. Funding Restrictions: We specify unallowable costs in 34 CFR 607.10(c). We reference additional regulations outlining funding restrictions in the Applicable Regulations section of this notice.

4. Recommended Page Limit: The application narrative is where you, the applicant, address the selection criteria that reviewers use to evaluate your application. We recommend that you (1) limit the application narrative to no more than 55 pages for Individual Development Grants and to no more than 75 pages for Cooperative Arrangement Development Grants and (2) use the following standards below. If you are addressing one or more priorities, we recommend that you limit your response to no more than an additional 20 pages total, 5 additional pages for Competitive Preference Priority 1, 5 additional pages for Competitive Preference Priority 2, 5 additional pages for Invitational Priority 1, and 5 additional pages for Invitational Priority 2. Please include a separate heading when responding to one or more competitive or invitational priorities.

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger and no smaller than 10 pitch (characters per inch).

• Use one of the following fonts: Times New Roman, Courier, Courier New, or Arial.

The recommended page limit does not apply to the cover sheet; the budget section, including the narrative budget justification; the assurances and certifications; or the one-page abstract and the bibliography. However, the recommended page limit does apply to all of the application narrative.

Note: The Budget Information Non-Construction Programs form (ED 524) sections A-C are not the same as the narrative response to the Budget section of the selection criteria.

V. Application Review Information

1. Selection Criteria: The following selection criteria for this competition are from 34 CFR 607.22(a) through (g) and 34 CFR 75.210. Applicants should address each of the following selection criteria separately for each proposed activity. The selection criteria are worth a total of 100 points. The maximum score for each criterion is noted in parentheses. An applicant that also chooses to address the competitive preference priorities can earn up to 112 total points.

(a) Quality of the applicant's comprehensive development plan. (up to 20 points)

The extent to which—

(1) The strengths, weaknesses, and significant problems of the institution's academic programs, institutional management, and fiscal stability are clearly and comprehensively analyzed and result from a process that involved major constituencies of the institution. (5 points)

(2) The goals for the institution's academic programs, institutional management, and fiscal stability are realistic and based on comprehensive analysis. (5 points)

(3) The objectives stated in the plan are measurable, related to institutional goals, and, if achieved, will contribute to the growth and self-sufficiency of the institution. (5 points)

(4) The plan clearly and comprehensively describes the methods and resources the institution will use to institutionalize practice and improvements developed under the proposed project, including, in particular, how operational costs for personnel, maintenance, and upgrades of equipment will be paid with institutional resources. (5 points)

(b) Quality of activity objectives. (up to 15 points)

The extent to which the objectives for each activity are—

(1) Realistic and defined in terms of measurable results. (8 points)

(2) Directly related to the problems to be solved and to the goals of the comprehensive development plan. (7 points)

(c) Quality of the project design. (up to 12 points)

The Secretary considers the quality of the design of the proposed project. In determining the quality of the design of the proposed project, the Secretary considers the extent to which the proposed project demonstrates a rationale.

(d) Quality of implementation strategy. (up to 16 points)

The extent to which—

(1) The implementation strategy for each activity is comprehensive. (6 points)

(2) The rationale for the implementation strategy for each activity is clearly described and is supported by the results of relevant studies or projects. (6 points)

(3) The timetable for each activity is realistic and likely to be attained. (4 points)

(e) Quality of key personnel. (up to 8 points)

The extent to which—

(1) The past experience and training of key professional personnel are directly related to the stated activity objectives. (4 points)

(2) The time commitment of key personnel is realistic. (4 points)

(f) Quality of project management plan. (up to 10 points)

The extent to which—

(1) Procedures for managing the project are likely to ensure efficient and effective project implementation. (5 points)

(2) The project coordinator and activity directors have sufficient authority to conduct the project effectively, including access to the president or chief executive officer. (5 points)

(g) Quality of evaluation plan. (up to 12 points)

The extent to which—

(1) The data elements and the data collection procedures are clearly described and appropriate to measure the attainment of activity objectives and to measure the success of the project in achieving the goals of the comprehensive development plan. (6 points)

(2) The data analysis procedures are clearly described and are likely to produce formative and summative results on attaining activity objectives and measuring the success of the project on achieving the goals of the comprehensive development plan. (6 points)

(h) Budget. (up to 7 points)

The extent to which the proposed costs are necessary and reasonable in relation to the project's objectives and scope.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

A panel of three non-Federal reviewers will review and score each application in accordance with the selection criteria and the competitive preference priorities. A rank order funding slate will be made from this review. Awards will be made in rank order according to the average score received from the peer review.

In tie-breaking situations for development grants, under 34 CFR 607.23(b), we must award additional points in the following three areas. We award one additional point to an application from an IHE that has an endowment fund of which the current market value, per full-time equivalent enrolled student, is less than the average current market value of the endowment funds, per FTE enrolled student, at comparable type institutions that offer similar instruction. We award one additional point to an application from an IHE that has expenditures for library materials per FTE enrolled student that are less than the average expenditure for library materials per FTE enrolled student at similar type institutions. We also add one additional point to an application from an IHE that proposes to carry out one or more of the following activities—

(1) Faculty development;

(2) Funds and administrative management;

(3) Development and improvement of academic programs;

(4) Acquisition of equipment for use in strengthening management and academic programs;

(5) Joint use of facilities; and

(6) Student services.

For the purpose of these funding considerations, we use 2021-2022 data.

If a tie remains after applying the tie-breaker mechanism above, priority will be given to applicants that have the lowest endowment values per FTE enrolled student.

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Secretary has established the following key performance measures for the purpose of Department reporting under 34 CFR 75.110.

(a) The percentage change, over the 5-year period, of the number of full-time degree-seeking undergraduates enrolled at Alaska Native and Native Hawaiian-Serving Institutions (Note: This is a long-term measure, which will be used to periodically gauge performance);

(b) The percentage of first-time, full-time degree-seeking undergraduate students at 4-year Alaska Native and Native Hawaiian-Serving Institutions who were in their first year of postsecondary enrollment in the previous year and are enrolled in the current year at the same Alaska Native and Native Hawaiian-Serving Institution;

(c) The percentage of first-time, full-time degree-seeking undergraduate students at 2-year Alaska Native and Native Hawaiian-Serving Institutions who were in their first year of postsecondary enrollment in the previous year and are enrolled in the current year at the same Alaska Native and Native Hawaiian-Serving Institution;

(d) The percentage of first-time, full-time degree-seeking undergraduate students enrolled at 4-year Alaska Native and Native Hawaiian-Serving Institutions who graduate within 6 years of enrollment; and

(e) The percentage of first-time, full-time degree-seeking undergraduate students enrolled at 2-year Alaska Native and Native Hawaiian-Serving Institutions who graduate within 3 years of enrollment.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced feature at this site, you can limit your search to documents published by the Department.

Nasser H. Paydar,
Assistant Secretary for Postsecondary Education.

[FR Doc. 2024-03946 Filed 2-26-24; 8:45 am]

BILLING CODE 4000-01-P